DEPARTMENT OF ENERGY

Federal Energy Regulatory Commission

[Docket No. CP25-205-000]

Golden Pass LNG Terminal LLC; Notice of Schedule for the Preparation of an Environmental Assessment for the Supply Lateral Project

On April 11, 2025, Golden Pass LNG Terminal LLC (Golden Pass LNG) filed an application under section 3 of the Natural Gas Act and Part 153 of the Commission's regulations requesting authorization to amend its existing authorization for the Golden Pass LNG Export Project granted by the Commission on December 21, 2016 ¹ to construct the Supply Lateral Project (Project) in Jefferson County, Texas. The Project purpose is to enhance supply security and flexibility to the LNG terminal by providing access to two additional sources of feed gas.

¹ Golden Pass Products LLC and Golden Pass Pipeline LLC, 157 FERC ¶ 61,222 (2016) (December 2016 Order).

On April 24, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.²

² For tracking purposes under the National Environmental Policy Act, the unique identification number for documents relating to this environmental review is EAXX-019-20-000-1749464402.

Schedule for Environmental Review

Issuance of EA—September 12, 2025

90-day Federal Authorization Decision Deadline ³—December 11, 2025

³ The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Golden Pass LNG proposes to construct and operate approximately 1.1 miles of 42-inch-diameter natural gas supply lateral pipeline, a receipt interconnect station, a meter station, and associated appurtenant facilities, located entirely within the Golden Pass LNG property boundary, to interconnect the terminal's feed gas system with a new intrastate pipeline being developed by Trident Intrastate Pipeline LLC. In addition, Golden Pass LNG would construct a receipt point tie-in and meter station that would connect to a future, planned interstate header being developed by Kinder Morgan Louisiana Pipeline LLC.

Golden Pass would temporarily use 33 acres of land during construction and 17 acres would permanently impacted for operation. This would include three existing private access roads, one of which will be permanently extended; three new permanent access roads; and one new temporary access road, totaling approximately 10.5 acres.

Background

On May 8, 2025, the Commission issued a Notice of Scoping Period Requesting Comments on Environmental Issues for the Proposed Amendment to the Certificate of Public Convenience and Necessity for the Supply Lateral Project. The Notice of Scoping was sent to affected landowners; federal, state, and local government agencies; elected officials; environmental and public interest groups; Native American tribes; other interested parties; and local libraries and newspapers. We received no comments on the proposed Project. All substantive comments received will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-205), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: June 9, 2025.
Debbie-Anne A. Reese,
Secretary.

[FR Doc. 2025-10791 Filed 6-12-25; 8:45 am]

BILLING CODE 6717-01-P